DEPARTMENT OF EDUCATION

Safe and Drug-Free Schools and Communities Advisory Committee

AGENCY: Office of Safe and Drug-Free Schools, Department of Education.

ACTION: Notice of open meeting.

SUMMARY: This notice sets forth the schedule and proposed agenda of an upcoming open meeting of the Safe and Drug-Free Schools and Communities Advisory Committee. The notice also describes the functions of the Committee. Notice of this meeting is required by section 10(a)(2) of the Federal Advisory Committee Act and is intended to notify the public of their opportunity to attend.

DATES: Monday, October 23, 2006 and Tuesday, October 24, 2006.

Time: October 23, 2006: 8:30 a.m. to 5 p.m.; October 24, 2006: 8 a.m. to 11:30 a.m.

ADDRESSES: The Committee will meet at the U.S. Department of Education, 400 Maryland Avenue, SW., Washington, DC.

FOR FURTHER INFORMATION CONTACT: Catherine Davis, Executive Director, Safe and Drug Free Schools and Communities Advisory Committee, U.S. Department of Education, 400 Maryland Avenue, SW., Room 1E110, Washington, DC 20202-3510; telephone: (202) 205-4169, or e-mail at OSDFSC@ed.gov.

SUPPLEMENTARY INFORMATION: The Committee was established to provide advice to the Secretary of Federal, State and local programs designated to create safe and drug-free schools, and on issues related to crisis planning. The focus for this meeting is the Unsafe School Choice Option and identification of Persistently Dangerous schools. The agenda will include panel presentations by invited speakers offering an overview of the issues, as well as discussion of the findings and recommendations for improving the policy. Further, the Committee will address strategies for accomplishing their mission as stated in the committee charter.

Individuals who will need accommodations for a disability in order to attend the meeting (e.g., interpreting services, assistive listening devices, or materials in alternative format) should notify Catherine Davis at OSDFSE@ed.gov or 202-205-4169 no later than October 9, 2006. We will attempt to meet requests for accommodations after this date but cannot guarantee their availability. The meeting site is accessible to individuals with disabilities.

Individuals interested in attending the meeting must register in advance because limited space is available at the meeting site. Please notify Catherine Davis at OSDFSC@ed.gov or 202-205-4169 of your intention to attend the meeting.

Opportunities for public comment are available on October 23 from 4:05-4:40 p.m. on a first come, first served basis. Comments presented at the meeting must be limited to 5 minutes in length. Written comments that accompany oral remarks are optional. Five copies are recommended and should be submitted to the committee Chairman.

Request for Written Comments: We invite the public to submit written comments relevant to the focus of the Advisory Committee. We would like to receive written comments from members of the public no later than April 30, 2007.

Addresses: Submit all comments to the Advisory Committee using one of the following methods: (1) Internet. We encourage the public to submit comments through the Internet to the following address: OSDFSC@ed.gov. (2) Mail. The public may also submit your comments via mail to Catherine Davis, Office of Safe and Drug Free Schools, U.S. Department of Education, 400 Maryland Avenue, SW., Room 1E110, Washington, DC 20202. Due to delays in mail delivery caused by heightened security, please allow adequate time for the mail to be received.

Records are kept of all Committee proceedings and are available for public inspection at the Office of Safe and Drug Free Schools, U.S. Department of Education, 400 Maryland Avenue, SW., Room 1E110, Washington, DC 20202 from the hours of 9 a.m. to 5 p.m. eastern standard time.

Dated: September 28, 2006.
Ray Simon,
Deputy Secretary.

[FR Doc. 06-8515 Filed 10-5-06; 8:45 am]

BILLING CODE 4000-01-M